DEPARTMENT OF THE TREASURY

Submission for OMB Review; Comment Request

September 28, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before November 8, 2004 to be assured of consideration.

Alcohol and Tobacco Tax and Trade Bureau (TTB)

OMB Number: 1513-0109.

Form Number: TTB F 5013.1.

Type of Review: Extension.

Title: Electronic filing User Access Enrollment Form.

Description: TTB F 5013.1 will be used in a pilot program for electronic filing of TTB forms. The pilot is being developed by TTB and Treasury's Financial Management Service. Participants will need to complete the form to be granted a password to access the e-filing system.

Respondents: Business of other for-profit.

Estimated Number of Respondents: 25.

Estimated Burden Hours Per Respondent: 18 minutes.

Frequency of Response: Annually.

Estimated Total Reporting Burden: 7 hours.

Clearance Officer: William H. Foster, Alcohol and Tobacco Tax and Trade Bureau, Room 200 East, 1310 G Street, NW., Washington, DC 20005, (202) 927-8210.

OMB Reviewer: Joseph F. Lackey, Jr., Office of Management and Budget, Room 10235, New Executive Office Building, Washington, DC 20503, (202) 395-7316.

Lois K. Holland,
Treasury PRA Clearance Officer.

[FR Doc. 04-22731 Filed 10-7-04; 8:45 am]

BILLING CODE 4810-31-P